FEDERAL COMMUNICATIONS COMMISSION

47 CFR Part 20

[WT Docket No. 10-254; WT Docket No. 07-250; DA 15-46]

Request for Updated Information and Comment on Wireless Hearing Aid Compatibility Regulations; Correction and Extension of Comment Dates

AGENCY: Federal Communications Commission.

ACTION: Proposed rule; correction and extension of comment dates.

SUMMARY: On December 23, 2014, the Wireless Telecommunications Bureau and the Consumer and Governmental Affairs Bureau published a document seeking updated input to better understand the current consumer experience with hearing aid compatible wireless handsets, to explore technical or other barriers to the provision of hearing aid compatible devices on new wireless technologies, and to consider changes to its rules that may be necessary to ensure that wireless handsets used with advanced communications services are accessible in light of directives contained in the Twenty-First Century Communications and Video Accessibility Act (CVAA). The comment date was erroneously published as an effective date and neither the comment nor the comment-reply date was provided. We also failed to provide an address for submission of comments. This document corrects those errors and extends the time within which to file comments and reply comments.

DATES: The comment date for the proposed rule changes published December 23, 2014, at 79 FR 76944, is extended until February 5, 2015. Reply comments are due on or before February 20, 2015.

ADDRESSES: Federal Communications Commission, 445 12th Street SW., Washington, DC 20554.

FOR FURTHER INFORMATION CONTACT: Eli Johnson, Spectrum and Competition Policy Division, Wireless Telecommunications Bureau, (202) 418-1395 or by email Eli.Johnson@fcc.gov.

SUPPLEMENTARY INFORMATION: The DATES section for the proposed rule changes published December 23, 2014, at 79 FR 76944, was incorrect. It should have provided a comment due date of January 22, 2015, and a comment-reply date of February 6, 2015. In response to a joint request by Telecommunications Industry Association, CTIA—The Wireless Association, and Hearing Loss Association of America (collectively, “Petitioners”), these comment and comment-reply dates are extended to February 5, 2015, and February 20, 2015, respectively. The DATES section in this document is correct, and an ADDRESSES section is provided.

Below is a summary of the Order in WT Docket Nos. 10-254 and 07-250; DA 15-46, released January 12, 2015, granting Petitioners' extension request. The full text of the Order is available for public inspection and copying during business hours in the FCC's Reference Information Center, Portals II, 445 12th Street SW., Room CY-A257, Washington, DC 20554. Also, it may be purchased from the Commission's duplicating contractor at Portals II, 445 12th Street SW., Room CY-B402, Washington, DC 20554; the contractor's Web site, http://www.bcpiweb.com; or by calling (800) 378-3160, facsimile (202) 488-5563, or email FCC@BCPIWEB.com. Copies of the Order also may be obtained via the Commission's Electronic Comment Filing System (ECFS) by using the search function for WT Docket No. 10-254 or 07-250. Additionally, the complete item is available on the Federal Communications Commission's Web site at http://www.fcc.gov.

1. On November 21, 2014, the Wireless Telecommunications Bureau and the Consumer and Government Affairs Bureau released a Public Notice in which the Commission sought updated comment and reply comment in its ongoing review of the wireless hearing aid compatibility rules. The Public Notice set the deadline for filing comments as January 22, 2015 and the deadline for reply comments as February 6, 2015. On January 6, 2015, Petitioners filed a joint request to extend the established comment and reply comment deadlines by 30 days. Petitioners argue that a 30 day extension is in the public interest as it allows them to develop meaningful, substantive responses to the questions raised in the Public Notice. As a result, Petitioners state that a more robust record will be developed if a 30 day extension is granted. In addition, Petitioners emphasize that the extension would be particularly useful in light of the holidays that fell within the window to file comments.

2. The Commission does not routinely grant extensions of time. Given the intervening holidays, however, the Commission will grant a 14 day extension to the filing deadlines. The Commission wishes to encourage the thoughtful consideration of the complex issues raised in this proceeding, and the Commission believes the additional time will facilitate careful and deliberate considerations of these matters. At the same time, a 14 day extension will not unduly delay the resolution of the issues raised in the Public Notice.

3. Accordingly, it is ordered that, pursuant to section 4(i) of the Communications Act of 1934, as amended, 47 U.S.C. 154(i), and §§ 0.51, 0.261, and 1.46 of the Commission's rules, 47 CFR 0.51, 0.261, and 1.46, the Joint Request for Extension of Comment and Reply Comment Deadlines filed by the Telecommunications Industry Association, CTIA—The Wireless Association, and Hearing Loss Association of America is granted to the extent indicated herein and the deadlines to file comments in this proceeding are extended to February 5, 2015, and reply comments to February 20, 2015.

Federal Communications Commission.
Amy Brett,
Associate Division Chief, Spectrum and Competition Policy Division, Wireless Telecommunications Bureau.

[FR Doc. 2015-02427 Filed 2-4-15; 8:45 am]

BILLING CODE 6712-01-P